DEPARTMENT OF LABOR

Employment and Training Administration

[TA-W-54,082]

Fountain Construction Company, Inc., Assembly Board Tooling Division, Jackson, MS; Notice of Affirmative Determination Regarding Application for Reconsideration

By letter of March 22, 2004, the company requested administrative reconsideration of the Department of Labor's Notice of Negative Determination Regarding Eligibility to Apply for Worker Adjustment Assistance, applicable to workers of the subject firm. The Department's determination notice was signed on March 8, 2004. The notice was published in the Federal Register on April 6, 2004 (69 FR 18109). The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed in Washington, DC, this 23rd day of April, 2004.
Elliott S. Kushner,
Certifying Officer, Division of Trade Adjustment Assistance.

[FR Doc. E4-1063 Filed 5-7-04; 8:45 am]

BILLING CODE 4510-13-P